INTERNATIONAL TRADE COMMISSION

[Investigation Nos. 731-TA-1082 and 1083 (Review)]

Chlorinated Isocyanurates From China and Spain; Determinations

On the basis of the record ¹ developed in the subject five-year reviews, the United States International Trade Commission (Commission) determines, pursuant to section 751(c) of the Tariff Act of 1930 (19 U.S.C. 1675(c)), that revocation of the antidumping duty orders on chlorinated isocyanurates from China and Spain would be likely to lead to continuation or recurrence of material injury to an industry in the United States within a reasonably foreseeable time.²

¹ The record is defined in sec. 207.2(f) of the Commission's Rules of Practice and Procedure (19 CFR 207.2(f)).

² Commissioner Daniel R. Pearson determines that revocation of the antidumping duty order on chlorinated isocyanurates from Spain would not be likely to lead to continuation or recurrence of material injury to an industry in the United States within a reasonably foreseeable time.

Background

The Commission instituted these reviews on May 3, 2010 (75 FR 23303) and determined on August 6, 2010 that it would conduct expedited reviews (75 FR 51113, August 18, 2010).

The Commission transmitted its determinations in these reviews to the Secretary of Commerce on September 30, 2010. The views of the Commission are contained in USITC Publication 4184 (September 2010), entitled Chlorinated Isocyanurates from China and Spain: Investigation Nos. 731-TA-1082 and 1083 (Review).

By order of the Commission.
Issued: September 30, 2010.
Marilyn R. Abbott,
Secretary to the Commission.

[FR Doc. 2010-25099 Filed 10-5-10; 8:45 am]

BILLING CODE 7020-02-P